FEDERAL ELECTION COMMISSION

[Notice 2013-11]

Filing Dates for the Massachusetts Special Elections in the 5th Congressional District

AGENCY: Federal Election Commission.

ACTION: Notice of filing dates for special election.

SUMMARY: Massachusetts has scheduled special elections on October 15, 2013, and December 10, 2013, to fill the U.S. House of Representatives seat vacated by Senator Edward J. Markey.

Committees required to file reports in connection with the Special Primary Election on October 15, 2013, shall file a 12-day Pre-Primary Report. Committees required to file reports in connection with both the Special Primary and the Special General Election on December 10, 2013, shall file a 12-day Pre-Primary Report, 12-day Pre-General Report, and Post-General Report.

FOR FURTHER INFORMATION CONTACT: Ms. Elizabeth S. Kurland, Information Division, 999 E Street NW., Washington, DC 20463; Telephone: (202) 694-1100; Toll Free: (800) 424-9530.

SUPPLEMENTARY INFORMATION:

Principal Campaign Committees

All principal campaign committees of candidates who participate in the Massachusetts Special Primary and Special General Elections shall file a 12-day Pre-Primary Report on October 3, 2013; a 12-day Pre-General Report on November 28, 2013; and a Post-General Report on January 21, 2014. (See charts below for the closing date for each report.)

All principal campaign committees of candidates participating only in the Special Primary Election shall file a 12-day Pre-Primary Report on October 3, 2013. (See charts below for the closing date for each report.)

Unauthorized Committees (PACs and Party Committees)

Political committees filing on a semi-annual basis in 2013 are subject to special election reporting if they make previously undisclosed contributions or expenditures in connection with the Massachusetts Special Primary or Special General Elections by the close of books for the applicable report(s). (See charts below for the closing date for each report.)

Committees filing monthly that make contributions or expenditures in connection with the Massachusetts Special Primary or General Elections will continue to file according to the monthly reporting schedule.

Additional disclosure information in connection with the Massachusetts Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,100 during the special election reporting periods (see charts below for closing date of each period). 11 CFR 104.22(a)(5)(v) and (b).

Calendar of Reporting Dates for Massachusetts Special Elections
Report | Close of books ¹ | Reg./cert. & overnight filing mailing deadline deadline | Filing deadline
Quarterly Filing Committees Involved in Only the Special Primary (10/15/13) Must File
Pre-Primary | 09/25/13 | 09/30/13 | 10/03/13
October Quarterly | 09/30/13 | 10/15/13 | 10/15/13
Semi-Annual Filing Committees Involved in Only the Special Primary (10/15/13) Must File
Pre-Primary | 09/25/13 | 09/30/13 | 10/03/13
Year-End | 12/31/13 | 01/31/14 | 01/31/14
Quarterly Filing Committees Involved in Both the Special Primary (10/15/13) and Special General (12/10/13) Must File
Pre-Primary | 09/25/13 | 09/30/13 | 10/03/13
October Quarterly | 09/30/13 | 10/15/13 | 10/15/13
Pre-General | 11/20/13 | 11/25/13 | ² 11/28/13
Post-General | 12/31/13 | 01/21/14 | 01/21/14
Year-End | WAIVED
Semi-Annual Filing Committees Involved in Both the Special Primary (10/15/13) and Special General (12/10/13) Must File
Pre-Primary | 09/25/13 | 09/30/13 | 10/03/13
Pre-General | 11/20/13 | 11/25/13 | ² 11/28/13
Post-General | 12/31/13 | 01/21/14 | 01/21/14
Year-End | WAIVED
Quarterly Filing Committees Involved in Only the Special General (12/10/13) Must File
Pre-General | 11/20/13 | 11/25/13 | ² 11/28/13
Post-General | 12/31/13 | 01/21/14 | 01/21/14
Year-End | WAIVED
Semi-Annual Filing Committees Involved in Only the Special General (12/10/13) Must File
Pre-General | 11/20/13 | 11/25/13 | ² 11/28/13
Post-General | 12/31/13 | 01/21/14 | 01/21/14
Year-End | WAIVED
¹ The reporting period always begins the day after the closing date of the last report filed. If the committee is new and has not previously filed a report, the first report must cover all activity that occurred before the committee registered as a political committee up through the close of books for the first report due.
² Notice that this filing deadline falls on a federal holiday. Filing deadlines are not extended when they fall on nonworking days. Accordingly, reports filed by methods other than registered, certified or overnight mail, or electronically, must be received before the Commission's close of business on the last business day before the deadline.

Dated: August 6, 2013.
On behalf of the Commission.
Ellen L. Weintraub,
Chair, Federal Election Commission.

[FR Doc. 2013-19377 Filed 8-9-13; 8:45 am]

BILLING CODE 6715-01-P